DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Cancer Institute Special Emphasis Panel, NCI Program Project Meeting II.

Date: October 3-4, 2012,

Time: 3:00 p.m. to 9:00 p.m.

Agenda: To review and evaluate grant applications,

Place: National Institutes of Health Neuroscience Center 6001 Executive Boulevard Room A1/A2 Rockville, MD 20852.

Contact Person: Shakeel Ahmad, Ph.D., Scientific Review Officer, Research Programs Review Branch, Division of Extramural Activities, National Cancer Institute, NIH 6116 Executive Boulevard, Room 8139 Bethesda, MD 20892-8328, (301) 594-0114, ahmads@mail.nih.gov.

Name of Committee: National Cancer Institute Special Emphasis Panel, NCI Program Project Meeting III.

Date: October 10-11, 2012.

Time: 8:00 a.m. to 2:00 p.m.

Agenda: To review and evaluate grant applications.

Place: Bethesda North Marriott Hotel & Conference Center 5701 Marinelli Road Bethesda, MD 20852.

Contact Person: Jeannette F. Korczak, Ph.D., Scientific Review Officer Research Programs Review Branch Division Of Extramural Activities National Cancer Institute, NIH 6116 Executive Blvd., Room 8115 Bethesda, MD 20892 301-496-9767, korczakj@mail.nih.gov.

Name of Committee: National Cancer Institute Special Emphasis Panel, NCI Program Project Meeting IV.

Date: October 15-16, 2012.

Time: 8:00 a.m. to 5:00 p.m.

Agenda: To review and evaluate grant applications.

Place: Hilton Washington/Rockville 1750 Rockville Pike Rockville, MD 20852.

Contact Person: Caterina Bianco, MD, Ph.D., Scientific Review Officer, Division of Extramural Activities, National Cancer Institute, NIH 6116 Executive Blvd., Ste. 8134 Bethesda, MD 20892-8328, 301-496-7011, biancoc@mail.nih.gov.

Name of Committee: National Cancer Institute Special Emphasis Panel, NCI Program Project Meeting V.

Date: October 18, 2012

Time: 8:00 a.m. to 6:00 p.m.

Agenda: To review and evaluate grant applications.

Place: National Institutes of Health, National Cancer Institute, 6116 Executive Boulevard, DEA Conference Room 8018, Rockville, MD 20852.

Contact Person: Virginia P. Wray, Ph.D., Deputy Chief, Research Programs Review Branch, Division of Extramural Activities, National Cancer Institute, NIH 6116 Executive Blvd., Room 8125, Bethesda, MD 20892,-8328, 301-496-9236, wrayv@mail.nih.gov.

Information is also available on the Institute's/Center's home page: http://deainfo.nci.nih.gov/advisory/sep/sep.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS).

Dated: August 17, 2012.
Anna P. Snouffer,
Deputy Director, Office of Federal Advisory Committee Policy.

[FR Doc. 2012-20690 Filed 8-22-12; 8:45 am]

BILLING CODE 4140-01-P